NUCLEAR REGULATORY COMMISSION

10 CFR Part 2

[NRC-2023-0196]

Revision of the NRC Enforcement Policy

AGENCY: Nuclear Regulatory Commission.

ACTION: Revision to policy statement.

SUMMARY: The U.S. Nuclear Regulatory Commission (NRC) is publishing a revision to its Enforcement Policy. This revision addresses the requirements of the Federal Civil Penalties Inflation Adjustment Act Improvements Act of 2015, which requires Federal agencies to adjust their maximum civil monetary penalty amounts annually for inflation.

DATES: This action is effective on January 12, 2024.

ADDRESSES: Please refer to Docket ID NRC-2023-0196 when contacting the NRC about the availability of information regarding this document. You may obtain publicly available information related to this document using any of the following methods:

• Federal Rulemaking Website: Go to https://www.regulations.gov and search for Docket ID NRC-2023-0196. Address questions about NRC dockets to Dawn Forder; telephone: 301-415-3407; email: Dawn.Forder@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Susanne Woods, Office of Enforcement, U.S. Nuclear Regulatory Commission, Washington, DC 20555-0001, telephone: 301-287-9446, email: Susanne.Woods@nrc.gov.

SUPPLEMENTARY INFORMATION:

I. Discussion

In 1990, Congress passed the Federal Civil Penalties Inflation Adjustment Act of 1990 (FCPIAA) to provide for regular adjustments for inflation of civil monetary penalties (CMPs). As amended by the Debt Collection Improvement Act of 1996, the FCPIAA required that the head of each Federal agency review and, if necessary, adjust by regulation the CMPs assessed under statutes enforced by the agency at least once every 4 years.

On November 2, 2015, the President of the United States signed into law the Federal Civil Penalties Inflation Adjustment Act Improvements Act of 2015 (the 2015 Improvements Act), which further amended the FCPIAA and requires Federal agencies to adjust their CMPs annually for inflation no later than January 15 of each year. The requirements of the 2015 Improvements Act apply to the NRC's maximum CMP amounts for 1) a violation of the Atomic Energy Act (AEA) of 1954, as amended, or any regulation or order issued under the AEA, codified in § 2.205(j) of title 10 of the Code of Federal Regulations (10 CFR), “Civil penalties”; and 2) a false claim or statement made under the Program Fraud Civil Remedies Act, codified in 10 CFR 13.3, “Basis for civil penalties and assessments.”

Pursuant to the 2015 Improvements Act, the NRC published today in the Rules section of the Federal Register the revised maximum daily base CMP, based on the percentage change in the consumer price index between October 2021 and October 2022, and codified in 10 CFR 2.205(j). In connection with this final rule, the NRC is publishing a corresponding update to the NRC's Enforcement Policy to adjust the monetary amounts listed in Section 8.0, “Table of Base Civil Penalties.” This monetary adjustment does not include the base civil penalty amounts listed in item f. because those values are based on the estimated or actual costs of authorized disposal and are not calculated based on the maximum daily base CMP codified in 10 CFR 2.205(j). Adjustments to item f. base civil penalty amounts are being examined under a separate effort.

Accordingly, the NRC has revised its Enforcement Policy to read as follows:

8.0 Table of Base Civil Penalties
[Table A]
a. Power reactors, gaseous diffusion uranium enrichment plants, and high-level waste repository | $360,000
b. Fuel fabricators authorized to possess Category I or II quantities of SNM and uranium conversion facilities | 180,000
c. All other fuel fabricators, including facilities under construction, authorized to possess Category III quantities of SNM, industrial processors, independent spent fuel and monitored retrievable storage installations, mills, gas centrifuge and laser uranium enrichment facilities | 90,000
d. Test reactors, contractors, waste disposal licensees, industrial radiographers, and other large material users | 36,000
e. Research reactors, academic, medical, or other small material users | 18,000
f. Loss, abandonment, or improper transfer or disposal of regulated material, regardless of the use or type of licensee:
1. Sources or devices with a total activity greater than 3.7 × 104 MBq (1 Curie), excluding hydrogen-3 (tritium) | 54,000
2. Other sources or devices containing the materials and quantities listed in 10 CFR 31.5(c)(13)(i) | 17,000
3. Sources and devices not otherwise described above | 7,000
g. Individuals who release safeguards information | 9,000

II. Paperwork Reduction Act Statement

This policy statement does not contain any new or amended collection of information subject to the Paperwork Reduction Act of 1995 (44 U.S.C. 3501 et seq). Existing collections of information were approved by the Office of Management and Budget (OMB), approval numbers 3150-0010 and 3150-0136.

Public Protection Notification

The NRC may not conduct or sponsor, and a person is not required to respond to, a collection of information unless the document requesting or requiring the collection displays a currently valid OMB control number.

III. Congressional Review Act

This action is a rule as defined in the Congressional Review Act (5 U.S.C. 801-808). However, the Office of Management and Budget has determined that it is not a “major rule” as defined by the Congressional Review Act.

Dated: December 20, 2023.
For the Nuclear Regulatory Commission.
Daniel H. Dorman,
Executive Director for Operations.

[FR Doc. 2023-28968 Filed 1-11-24; 8:45 am]

BILLING CODE 7590-01-P